FEDERAL COMMUNICATIONS COMMISSION

47 CFR Part 73

[DA 04-1237; MB Docket No. 04-170, RM-10766]

Radio Broadcasting Services; Rosebud, SD

AGENCY: Federal Communications Commission.

ACTION: Proposed rule.

SUMMARY: The Commission requests comments on a petition filed by Rosebud Sioux Tribe proposing the allotment of Channel 257C at Rosebud, South Dakota, as the community's first local aural transmission service. Channel 257C can be allotted to Rosebud in compliance with the Commission's minimum distance separation requirements with a site restriction of 5.2 kilometers (3.2 miles) east at petitioner's requested site. The coordinates for Channel 257C at Rosebud are 43-13-01 North Latitude and 100-47-33 West Longitude.

DATES: Comments must be filed on or before June 25, 2004 and reply comments on or before July 12, 2004.

ADDRESSES: Federal Communications Commission, Washington, DC 20054. In addition to filing comments with the FCC, interested parties should serve the petitioner, or its counsel or consultant, as follows: William Kindle, Chairman, Rosebud Sioux Tribe, P.O. Box 430, Rosebud, South Dakota 57570 (Petitioner).

FOR FURTHER INFORMATION CONTACT: Sharon P. McDonald, Media Bureau, (202) 418-2180.

SUPPLEMENTARY INFORMATION: This is a synopsis of the Commission's Notice of Proposed Rule Making, MB Docket No. 04-170, adopted June 25, 2004, and released July 12, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

List of Subjects for 47 CFR Part 73

Radio, Radio broadcasting.

For the reasons discussed in the preamble, the Federal Communications Commission proposes to amend 47 CFR part 73 as follows:

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under South Dakota, is amended by adding, Rosebud, Channel 257C.

Federal Communications Commission.
John A. Karousos,
Assistant Chief, Audio Division, Media Bureau.

[FR Doc. 04-11545 Filed 5-20-04; 8:45 am]

BILLING CODE 6712-01-P